DEPARTMENT OF COMMERCE

International Trade Administration

[A-122-838]; [C-122-839]

Corrections to Notice of Amended Final Determination of Sales of Less Than Fair Value and Antidumping Duty Order: Certain Softwood Lumber Products from Canada and Notice of Amended Final Affirmative Countervailing Duty Determination and Notice of Countervailing Duty Order: Certain Softwood Lumber Products from Canada

AGENCY: Import Administration, International Trade Administration, Department of Commerce.

EFFECTIVE DATE: May 30, 2002.

FOR FURTHER INFORMATION CONTACT: Regarding the Antidumping Investigation, contact Constance Handley at (202) 482-0631 or Charles Riggle at (202) 482-0650, Office of AD/CVD Enforcement V, Import Administration, International Trade Administration, U.S. Department of Commerce, Room 4012, 14th Street and Constitution Avenue, N.W., Washington, D.C. 20230. Regarding the Countervailing Duty Investigation, contact Eric B. Greynolds at (202) 482-6071, Office of AD/CVD Enforcement VI, at the address set forth above.

SUPPLEMENTARY INFORMATION:

The Applicable Statute and Regulations

Unless otherwise indicated, all citations to the statute are references to the provisions of the Tariff Act of 1930, as amended by the Uruguay Round Agreements Act effective January 1, 1995 (the Act). In addition, unless otherwise indicated, all citations to the Department's regulations are to the current regulations codified at 19 CFR Part 351 (2000).

Correction to Scope of Antidumping and Countervailing Duty Orders

On May 22, 2002, the Department of Commerce published its Notice of Amended Final Determination of Sales at Less than Fair Value and Antidumping Duty Order: Certain Softwood Lumber Products from Canada, 67 FR 36068, and its Notice of Amended Final Affirmative Countervailing Duty Determination and Notice of Countervailing Duty Order: Certain Softwood Lumber Products from Canada, 67 FR 36070 (Softwood Lumber Orders). In the “Scope of the Order” sections of the Softwood Lumber Orders, we inadvertently omitted certain language in the exclusion of softwood lumber products contained in single family home packages or kits. See item (6)B of the “Scope of the Order” sections of the Softwood Lumber Orders, 67 FR at 36068 and 67 FR at 36071, respectively. We correct and amend the “Scope of the Order” sections by replacing item (6)B with the following language:

B. The package or kit must contain all necessary internal and external doors and windows, nails, screws, glue, sub floor, sheathing, beams, posts, connectors, and if included in the purchase contract, decking, trim, drywall and roof shingles specified in the plan, design or blueprint.

This notice is published pursuant to sections 706(a) and 736(a) of the Act and 19 CFR 351.211.

Dated: May 24, 2002
Bernard T. Carreau,
Acting Assistant Secretary for Import Administration.

[FR Doc. 02-13733 Filed 5-29-02; 8:45 am]

BILLING CODE 3510-DS-S